DEPARTMENT OF THE INTERIOR

Bureau of Land Management

43 CFR Part 8360

[223 LLUTY00000 L12200000.MA0000]

Final Supplementary Rules for the Klondike Bluffs Area of Public Lands Managed by the Moab Field Office in Grand County, UT

AGENCY: Bureau of Land Management, Interior.

ACTION: Final supplementary rule.

SUMMARY: The Bureau of Land Management (BLM) is finalizing rules limiting camping to developed campgrounds and designated campsites within the Klondike Bluffs Mountain Bike Focus Area and a nearby isolated 160-acre BLM parcel. The rules require the use of portable toilets at designated campsites where constructed toilets are not provided. Additionally, the rules prohibit wood cutting and collecting in the Klondike Bluffs Mountain Bike Focus Area and the nearby 160-acre parcel.

DATES: These final supplementary rules are effective on May 23, 2022.

ADDRESSES: Inquiries may be directed to the BLM Moab Field Office at (435) 259-2100 or 82 East Dogwood Avenue, Moab, UT 84532. The final supplementary rules and accompanying environmental documents are available for inspection at the BLM Moab Field Office and on the ePlanning website at: https://go.usa.gov/xuZsG.

A map of the management area and boundaries can be obtained by contacting the Moab Field Office (see ADDRESSES section).

FOR FURTHER INFORMATION CONTACT: Jennifer Jones, Assistant Field Manager for Recreation, BLM Moab Field Office, 82 East Dogwood Avenue, Moab, UT 84532, (435) 259-2100, or jljones@blm.gov. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION:

I. Background

II. Discussion of Public Comments

III. Discussion of Final Supplementary Rules

IV. Procedural Matters

I. Background

The BLM is establishing these final supplementary rules under the authority of 43 CFR 8365.1-6, which allows State Directors to establish supplementary rules for the protection of persons, property, and the public lands and resources. This provision allows the BLM to issue rules of less than national effect without codifying the rules in the CFR. These final supplementary rules apply to public lands managed by the Moab Field Office.

In September 2019, the BLM issued a decision record on an environmental assessment (EA) to limit camping to designated sites and developed campgrounds in the Klondike Bluffs Mountain Bike Focus Area and a nearby isolated 160-acre parcel of BLM-administered land that is completely surrounded by lands managed by the State of Utah. During the EA process, the BLM identified the need to establish enforceable supplementary rules concerning camping at these locations.

The BLM has documented significant increases in visitation numbers and resulting pressures on camping areas managed by the Moab Field Office. Therefore, the BLM has determined these rules are necessary to increase sustainable camping and recreation opportunities, provide for visitor health and safety, prevent undue degradation of natural and cultural non-renewable resources, and promote high-quality outdoor recreation opportunities.

During the 15-day public comment period on the EA, the BLM received 14 comment letters, 13 of which were in support of the proposal. The proposal was also supported by Grand County, Utah. The Utah Governor's Office of Economic Development commented and offered monetary assistance to build a campground in the Klondike Bluffs area to enhance the quality of the world-class recreation opportunities.

II. Discussion of Public Comments

The BLM published proposed supplementary rules on August 18, 2021 (88 FR 46270). Five comment letters were received during the 60-day public comment period. All five of the commentors expressed strong support for the supplementary rules.

III. Discussion of Final Supplementary Rules

The BLM Moab Field Office

The BLM Moab Field Office has jurisdiction from the Grand County line to the north, the Utah-Colorado State line to the east, Harts Draw and Lisbon Valley to the south, and the Green River to the west. The public lands managed by the Moab Field Office are a domestic and international tourist destination hosting three million visitors per year. The Moab Field Office manages 46 developed campgrounds.

These final supplementary rules are critical for continuing to provide sustainable camping opportunities, ensuring public health and safety, reducing visitor conflicts, and protecting natural and cultural resources on public lands. The supplementary rules already in place have been effective in providing for visitor health and safety and protecting cultural and natural resources while improving the visitor experience. These final rules supplement existing rules by providing protection to an additional high-visitation area managed by the Moab Field Office.

The final supplementary rules regarding camping, human waste, and wood gathering cover the Klondike Bluffs Mountain Bike Focus Area and a nearby 160-acre public land parcel (for a total of 14,786 acres) that has become increasingly popular as the Klondike Bluffs Mountain Bike Trail System, which has been developed. The restrictions are directly related to the degradation of natural resources, health and safety issues posed by the presence of human waste, and unsustainable levels of high-density camping use where no facilities exist to mitigate visitor impacts.

The reasoning for each rule is addressed below.

1. Final rule: You must camp at a designated site. This final rule applies to the Klondike Bluffs Mountain Bike Focus Area and a nearby 160-acre parcel where dispersed camping is degrading natural, visual, and wildlife resources while causing risks to human health. The affected area reflects the recreation management decision (REC-6) in the 2008 Moab Resource Management Plan (RMP) to limit dispersed camping as visitation impacts and environmental conditions warrant.

2. Final rule: You must use a constructed toilet or possess, set up for usage, and use a portable toilet to dispose of solid human waste. Exposure to human waste is a health risk to the public and BLM personnel. The continual deposition of human waste on or just beneath the surface of the ground—which is largely sand and bare rock in the Moab region—is a risk that is not naturally mitigated. These risks are amplified in high-visitation areas and must be mitigated by specifying the methods of disposal. This rule applies to the Klondike Bluffs Mountain Bike Focus Area and the nearby 160-acre parcel because the area experiences a very high level of visitation.

3. Final rule: You must not cut, gather, or collect wood. Wood gathering depletes an already sparse supply of woody vegetation that is not readily replaced in the desert environment. As with camping and human waste, the Klondike Bluffs Area is at a greater risk of resource damage and depletion due to high visitation. To ensure future visitors can enjoy the visual resources, and to protect the sensitive desert ecology, wood cutting, gathering, and collecting in the Klondike Bluffs area is prohibited.

IV. Procedural Matters

Executive Order 12866, Regulatory Planning and Review

These final supplementary rules are not significant regulatory actions and are not subject to review by the Office of Management and Budget under Executive Order 12866. These final supplementary rules will not have an annual effect of $100 million or more on the economy. They will not adversely affect, in a material way, the economy, productivity, competition, jobs, the environment, public health or safety, or State, local, or Tribal governments or communities. These supplementary rules do not create a serious inconsistency or otherwise interfere with an action taken or planned by another agency. The supplementary rules do not materially alter the budgetary effects of entitlements, grants, user fees, loan programs, or the rights or obligations of their recipients; nor do they raise novel legal or policy issues. These supplementary rules merely establish rules of conduct for public use on a limited area of public lands.

National Environmental Policy Act

These supplementary rules are consistent with and necessary to properly implement decisions proposed, analyzed, and approved in EA #DOI-BLM-UT-Y010-2019-0021-EA. They establish rules of camping conduct for public use of public lands managed by the Moab Field Office to protect public health, safety, and natural and cultural resources. The approved EA is available for review at the physical and on-line locations identified in the ADDRESSES section.

Regulatory Flexibility Act

Congress enacted the Regulatory Flexibility Act (RFA) of 1980, as amended (5 U.S.C. 601-612) to ensure that Government regulations do not unnecessarily or disproportionately burden small entities. The RFA requires a regulatory flexibility analysis if a rule has a significant economic impact, either detrimental or beneficial, on a substantial number of small entities. These final supplementary rules merely establish rules of conduct for public use on a limited area of public lands. Therefore, the BLM has determined the final supplementary rules do not have a significant economic impact on a substantial number of small entities.

Small Business Regulatory Enforcement Fairness Act

These final supplementary rules are not “major” as defined under 5 U.S.C. 804(2). The final supplementary rules merely establish rules of conduct for public use on a limited area of public lands and will not affect commercial or business activities of any kind.

Unfunded Mandates Reform Act

These final supplementary rules will not impose an unfunded mandate on State, local, or Tribal governments in the aggregate, or the private sector of more than $100 million per year; nor will they have a significant or unique effect on small governments. The final supplementary rules will have no effect on governmental or Tribal entities and will impose no requirements on any of these entities. The final supplementary rules will merely establish rules of conduct for public use on a limited selection of public lands and will not affect Tribal, commercial, or business activities of any kind. Therefore, the BLM is not required to prepare a statement containing the information required by the Unfunded Mandates Reform Act (2 U.S.C. 1531, et seq.).

Executive Order 12630, Governmental Actions and Interference With Constitutionally Protected Property Rights (Takings)

These final supplementary rules do not have significant takings implications, nor are they capable of interfering with Constitutionally protected property rights. The final supplementary rules merely establish rules of conduct for public use for a limited area of public lands and will not affect anyone's property rights. Therefore, the Department of the Interior has determined these final supplementary rules will not cause a “taking” of private property or require preparation of a takings assessment under this Executive Order.

Executive Order 13132, Federalism

These final supplementary rules will not have a substantial direct effect on the states, the relationship between the Federal Government and the states, nor the distribution of power and responsibilities among the various levels of government. These final supplementary rules will not conflict with any State law or regulation. Therefore, in accordance with Executive Order 13132, the BLM has determined these final supplementary rules do not have sufficient Federalism implications to warrant preparation of a Federalism Assessment.

Executive Order 12988, Civil Justice Reform

Under Executive Order 12988, the Office of the Solicitor has determined these final supplementary rules will not unduly burden the judicial system and that they meet the requirements of sections 3(a) and 3(b)(2) of the Order.

Executive Order 13175, Consultation and Coordination With Tribal Governments

In accordance with Executive Order 13175, the BLM conducted consultation and coordination with Tribal governments in the development of the RMP and the EA which form the basis for the final supplementary rules. Tribal consultation was also undertaken on EA #DOI-BLM-UT-Y010-2019-0021-EA. The two Tribes who responded (the Hopi and the Southern Ute) fully concurred with the action to limit camping to designated sites.

Energy Supply, Distribution, or Use

Under Executive Order 13211, the BLM has determined the final supplementary rules do not comprise a significant energy action, and they will not have an adverse effect on energy supplies, production, or consumption.

Paperwork Reduction Act

These final supplementary rules do not contain information collection requirements the Office of Management and Budget must approve under the Paperwork Reduction Act of 1995, 44 U.S.C. 3501, et seq. Federal criminal investigations or prosecutions may result from these rules, and the collection of information for these purposes is exempt from the Paperwork Reduction Act, 44 U.S.C. 3518(c)(1).

Author

The principal author of these final supplementary rules is Kathleen Stevens, Outdoor Recreation Planner, BLM Moab Field Office, 82 East Dogwood Avenue, Moab, UT 84532.

V. Final Supplementary Rules for the BLM Moab Field Office

For the reasons stated in the preamble, and under the authorities for supplementary rules found at 43 U.S.C. 1740, and 43 CFR 8365.1-6, the BLM Utah State Director establishes the following supplementary rules:

Definitions

The following definitions apply to the final supplementary rules.

Camping: The erecting of a tent or shelter of natural or synthetic material, preparing a sleeping bag or other bedding material for use, parking of a motor vehicle, motor home or trailer, or mooring of a vessel, for the apparent purpose of overnight occupancy while engaged in recreational activities such as hiking, hunting, fishing, bicycling, sightseeing, off-road vehicle activities, or other generally recognized forms of recreation.

Klondike Bluffs Mountain Bike Focus Area: Public land located east of U.S. Highway 191, west of Arches National Park, north of the Dalton Wells Road and south of the block of State land near Interstate 70. A map of the area can be viewed at the Moab Field Office or in the Klondike Bluffs EA.

Portable Toilet: (1) A containerized and reusable system; (2) A commercially available biodegradable system that is landfill disposable (e.g., Rest Stop, Go-Anywhere Toilet Kit or “WAG bag”); or (3) A washable, reusable toilet within a camper, trailer or motor home.

The following rules apply to the Klondike Bluffs Mountain Bike Focus Area and a nearby 160-acre parcel:

(1) You must camp at a designated site.

(2) You must not dispose of human waste in any other container than a portable or constructed toilet.

(3) You must not cut, gather, or collect wood.

Penalties

Under Section 303(a) of the Federal Land Policy and Management Act of 1976, 43 U.S.C. 1733(a) and 43 CFR 8360.0-7, any person who violates any of these supplementary rules on public lands within Utah may be tried before a United States Magistrate and fined no more than $1,000, imprisoned for no more than 12 months, or both. Such violations may also be subject to the enhanced fines provided for by 18 U.S.C. 3571.

Exemptions

Any Federal, State, local, or military persons acting within the scope of their official duties; members of an organized rescue or firefighting force in performance of an official duty; and persons who are expressly authorized or approved by the BLM.

Gregory Sheehan,
Bureau of Land Management, Utah State Director.

[FR Doc. 2022-08859 Filed 4-26-22; 8:45 am]

BILLING CODE 4310-DQ-P